DEPARTMENT OF ENERGY

Federal Energy Regulatory Commission

Combined Notice of Filings

Take notice that the Commission has received the following Natural Gas Pipeline Rate and Refund Report filings:

Filings Instituting Proceedings

Docket Numbers: RP14-876-000.

Applicants: Leaf River Energy Center LLC.

Description: Leaf RIver Energy Center LLC—Purchase Offer Show Cause Order Compliance Filing to be effective 7/1/2014.

Filed Date: 5/14/14.

Accession Number: 20140514-5080.

Comments Due: 5 p.m. ET 5/27/14.

Docket Numbers: RP14-877-000.

Applicants: Northwest Pipeline LLC.

Description: Compliance—Order to Show Cause to be effective N/A.

Filed Date: 5/14/14.

Accession Number: 20140514-5083.

Comments Due: 5 p.m. ET 5/27/14.

Docket Numbers: RP14-878-000.

Applicants: Arlington Storage Company, LLC.

Description: Capacity Release Purchase Offer Posting Show Casue Order Compliance Filing to be effective 12/31/9998.

Filed Date: 5/14/14.

Accession Number: 20140514-5102.

Comments Due: 5 p.m. ET 5/27/14.

Docket Numbers: RP14-879-000.

Applicants: Tres Palacios Gas Storage LLC.

Description: Capacity Release Purchase Offer Posting Show Cause Order Compliance Filing to be effective 12/31/9998.

Filed Date: 5/14/14.

Accession Number: 20140514-5116.

Comments Due: 5 p.m. ET 5/27/14.

Docket Numbers: RP14-880-000.

Applicants: Golden Triangle Storage, Inc..

Description: Docket No. RP14-442-000 Compliance Filing to be effective 6/17/2014.

Filed Date: 5/14/14.

Accession Number: 20140514-5123.

Comments Due: 5 p.m. ET 5/27/14.

Docket Numbers: RP14-881-000.

Applicants: Vector Pipeline L.P.

Description: Compliance Filing to Show Cause Order RP14-442-000 to be effective N/A.

Filed Date: 5/15/14.

Accession Number: 20140515-5001.

Comments Due: 5 p.m. ET 5/27/14.

Docket Numbers: RP14-882-000.

Applicants: Carolina Gas Transmission Corporation.

Description: FERC Show cause Order 3-20-14 to be effective 5/22/2014.

Filed Date: 5/15/14.

Accession Number: 20140515-5018.

Comments Due: 5 p.m. ET 5/27/14.

Docket Numbers: RP14-883-000.

Applicants: Trailblazer Pipeline Company LLC.

Description: Compliance to Show Cause to be effective 6/14/2014.

Filed Date: 5/15/14.

Accession Number: 20140515-5025.

Comments Due: 5 p.m. ET 5/27/14.

Docket Numbers: RP14-884-000.

Applicants: Texas Eastern Transmission, LP.

Description: May2014 Termination of Non-conforming Agreement to be effective 6/15/2014.

Filed Date: 5/15/14.

Accession Number: 20140515-5026.

Comments Due: 5 p.m. ET 5/27/14.

Docket Numbers: RP14-885-000.

Applicants: Rockies Express Pipeline LLC.

Description: Compliance to Show Cause Order to be effective 6/14/2014.

Filed Date: 5/15/14.

Accession Number: 20140515-5029.

Comments Due: 5 p.m. ET 5/27/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: Thursday, May 15, 2014.
Nathaniel J. Davis, Sr.,
Deputy Secretary.

[FR Doc. 2014-11766 Filed 5-20-14; 8:45 am]

BILLING CODE 6717-01-P